DEPARTMENT OF AGRICULTURE

Agricultural Marketing Service

7 CFR Part 1255

[Doc. No. AMS-SC-16-0112]

Organic Research, Promotion, and Information Order

AGENCY: Agricultural Marketing Service, USDA.

ACTION: Extension of comment period.

SUMMARY: Notice is hereby given that Agricultural Marketing Service (AMS) is extending the comment period for the proposed rule published in the Federal Register on January 18, 2017 (82 FR 5746), until April 19, 2017. The proposed rule invited comments on the proposed establishment of an industry-funded research, promotion, and information program for certified organic products. The proposed rule also announced the Agricultural Marketing Service's (AMS) intent to request approval from the Office of Management and Budget (OMB) of new information collection requirements to implement the program. This document extends the comment period for the proposed rule by 30 days.

DATES: Comments received by April 19, 2017, will be considered prior to issuance of a final rule.

ADDRESSES: Interested persons are invited to submit written comments concerning this proposal. Comments may be submitted on the Internet at: http://www.regulations.gov or to the Promotion and Economics Division, Specialty Crops Program, AMS, USDA, 1400 Independence Avenue SW., Room 1406-S, Stop 0244, Washington, DC 20250-0244; facsimile: (202) 205-2800. All comments should reference the docket number and the date and page number of this issue of the Federal Register and will be made available for public inspection, including name and address, if provided, in the above office during regular business hours or it can be viewed at http://www.regulations.gov.

Pursuant to the Paperwork Reduction Act (PRA), comments regarding the accuracy of the burden estimate, ways to minimize the burden, including the use of automated collection techniques or other forms of information technology, or any other aspect of this collection of information, should be sent to the above address. In addition, comments concerning the information collection should also be sent to the Desk Office for Agriculture, Office of Information and Regulatory Affairs, OMB, New Executive Office Building, 725 17th Street NW., Room 725, Washington, DC 20503.

FOR FURTHER INFORMATION CONTACT: Heather Pichelman, Division Director, Promotion and Economics Division, Specialty Crops Program, AMS, USDA, 1400 Independence Avenue SW., Room 1406-S, Stop 0244, Washington, DC 20250-0244; facsimile: (202) 205-2800; or electronic mail: Heather.Pichelman@ams.usda.gov.

SUPPLEMENTARY INFORMATION: A proposed rule was published in the Federal Register on January 18, 2017 (82 FR 5746). This proposed action invited comments on a proposed industry-funded research, promotion, and information program for certified organic products. Organic products are products produced under the authority of the Organic Foods Production Act of 1990 (7 U.S.C. 6501-6522) and its implementing regulations at 7 CFR part 205. The organic market includes a range of agricultural commodities such as fruits, vegetables, dairy, meat, poultry, breads, grains, snack foods, condiments, beverages, and packaged and prepared foods as well as non-food items such as fiber (linen and clothing), personal care products, pet food, and flowers. The program would be financed by an assessment on domestic producers, handlers and importers of organic products and would be administered by a board of industry members nominated by organic stakeholders and appointed by the Secretary. The proposed initial assessment rate would be one tenth of one percent of net organic sales for producers and handlers, and one tenth of one percent of the transaction value of organic products imported into the United States for importers. Citing domestic supply shortages, challenges with viable pest management, and market confusion, program proponents have proposed an organic research and promotion program for the purposes of: (1) Developing and financing an effective and coordinated program of research, promotion, industry information, and consumer education regarding organic commodities; and (2) maintaining and expanding existing markets for organic commodities.

A referendum would be held among eligible domestic producers, handlers and importers to determine whether they favor implementation of the program prior to it going into effect. The proposal was submitted to USDA by the Organic Trade Association (OTA), a membership business association, in collaboration with the 7-member GRO Organic Core Committee. OTA is a membership-based trade organization representing growers, processors, certifiers, farmers associations, distributors, importers, exporters, consultants, retailers, and others involved in the organic sector. The GRO Organic Core Committee is a subset of OTA's larger Organic Research and Promotion Program Steering Committee. It included OTA subcommittee chairs and other industry leaders who built on the outreach and input from the larger committee to guide the development of a proposed Order.

This proposed rule also announced AMS's intent to request approval from OMB of new information collection requirements to implement the program.

The 60-day comment period provided in the proposed rule published in the Federal Register on January 18, 2017 (82 FR 5746) was set to end on March 20, 2017. AMS has extended the end of comment period by 30 days to April 19, 2017 to ensure that interested persons have sufficient time to review and comment on the proposed rule.

Authority: 7 U.S.C. 7411-7425; 7 U.S.C. 7401.

Dated: February 22, 2017.
Bruce Summers,
Acting Administrator, Agricultural Marketing Service.

[FR Doc. 2017-03825 Filed 2-24-17; 8:45 am]

BILLING CODE 3410-02-P